COMMODITY FUTURES TRADING COMMISSION

17 CFR Part 165

RIN Number 3038-AD04

Implementing the Whistleblower Provisions of Section 23 of the Commodity Exchange Act

Correction

In proposed rule document 2010-29022, beginning on page 75728 in the issue of Monday, December 6, 2010, make the following correction:

On page 75727, in the cover for Part II, the agency name “Commodity Futures Trading Corporation” should read “Commodity Futures Trading Commission.”

[FR Doc. C1-2010-29022 Filed 1-25-11; 8:45 am]

BILLING CODE 1505-01-D